OFFICE OF THE UNITED STATES TRADE REPRESENTATIVE

Reallocation of Unused Fiscal Year 2023 WTO Tariff-Rate Quota Volume for Raw Cane Sugar

AGENCY: Office of the United States Trade Representative.

ACTION: Notice.

SUMMARY: The Office of the United States Trade Representative (USTR) is providing notice of country-by-country reallocations of the fiscal year (FY) 2023 in-quota quantity of the World Trade Organization (WTO) tariff-rate quota (TRQ) for imported raw cane sugar.

DATES: This notice is applicable on March 14, 2023.

FOR FURTHER INFORMATION CONTACT: Erin Nicholson, Office of Agricultural Affairs, at 202-395-9419 or erin.h.nicholson@ustr.eop.gov.

SUPPLEMENTARY INFORMATION: Pursuant to Additional U.S. Note 5 to chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On July 11, 2022, the Secretary of Agriculture established the FY 2023 TRQ for imported raw cane sugar at the minimum quantity to which the United States is committed pursuant to the WTO Uruguay Round Agreements (1,117,195 metric tons raw value (MTRV) conversion factor: 1 metric ton = 1.10231125 short tons). On July 21, 2022, USTR provided notice of country-by-country allocations of the FY 2023 in-quota quantity of the WTO TRQ for imported raw cane sugar. See 87 FR 43593. Based on consultation with quota holders, the U.S. Trade Representative has determined to reallocate 224,240 MTRV of the original TRQ quantity from those countries that have stated they do not plan to fill their FY 2023 allocated raw cane sugar quantities. The U.S. Trade Representative is allocating the 224,240 MTRV to the following countries in the amounts specified below:

Country | FY 2023 raw sugar unused reallocation (MTRV)
Argentina | 12,682
Australia | 24,479
Barbados | 500
Belize | 3,244
Bolivia | 2,360
Brazil | 42,765
Colombia | 7,078
Costa Rica | 4,424
Dominican Republic | 40,000
Ecuador | 3,244
El Salvador | 7,668
Eswatini (Swaziland) | 4,719
Fiji | 2,654
Guatemala | 14,157
Guyana | 3,539
Honduras | 2,949
India | 2,360
Malawi | 2,949
Mauritius | 3,539
Mozambique | 3,834
Panama | 8,553
Peru | 12,092
South Africa | 6,783
Thailand | 4,129
Zimbabwe | 3,539

The allocations of the raw cane sugar WTO TRQ to countries that are net importers of sugar are conditioned on receipt of the appropriate verifications of origin. Certificates for quota eligibility must accompany imports from any country for which an allocation has been provided.

Douglas McKalip,
Chief Agricultural Negotiator, Office of the United States Trade Representative.

[FR Doc. 2023-05164 Filed 3-13-23; 8:45 am]

BILLING CODE 3290-F3-P